DEPARTMENT OF AGRICULTURE

Notice of Request for an Extension to a Currently Approved Information Collection

AGENCY: Office of the Assistant Secretary for Administration, USDA.

ACTION: Notice and request for comments.

SUMMARY: In accordance with the Paperwork Reduction Act of 1995, this notice announces the Office of the Assistant Secretary for Administration's (ASA) intention to request approval from the Office of Management and Budget (OMB) for an extension of the currently approved information collection for the U.S. Department of Agriculture (USDA) 1994 Tribal Scholars Program.

DATES: Comments on this notice must be received by December 18, 2012 to be assured of consideration.

Additional Information or Comments

Contact Lawrence Shorty, Program Director, USDA 1994 Program, USDA, 1400 Independence Ave. SW., Washington, DC 20250; phone: (202) 720-7265; fax: (202) 720-7704.

ADDRESSES: Lawrence Shorty, Program Director, 1994 Program Office, 1400 Independence Avenue SW., Mail Stop 9577, Washington, DC 20250.

SUPPLEMENTARY INFORMATION: Title: USDA 1994 Tribal Scholars Program.

OMB Number: 0503-0016.

Expiration Date of Approval: December 31, 2012.

Type of Request: Extension to the currently approved information collection.

Abstract: The purpose of the U.S. Department of Agriculture (USDA) 1994 Tribal Scholars Program is to strengthen the long-term partnership between USDA and the 1994 Land-Grant Institutions to increase the number of students studying and graduating in food, agriculture, natural resources, and other related fields of study and to offer career opportunities to increase the pool of scientists and professionals to annually fill 50,000 jobs in the food, agricultural, and natural resources system.

This partnership effort is a joint human capital initiative between USDA and the Nation's 1994 Land-Grant Institutions utilizing the Federal USDA Pathways Internship Program. This student internship program offers a combination of paid work experience with the USDA sponsoring agency through a USDA internship applied for under the new Office of Personnel Management Pathways Program guidelines. The program is designed to integrate classroom study in a degreed university program that prepares the student for employment in the sponsoring agency's future workforce with paid tuition, fees, books, use of a laptop computer, and Leadership training. The program is conducted in accordance with a planned schedule and a working agreement between USDA agencies and students through a Pathways US Department of Agriculture Internship Program Participant Agreement.

Summary of Collection: Each applicant will be required to submit a USDA Pathways Internship Program application for the USDA 1994 Tribal Scholars Program under the new Office of Personnel Management Pathways Program, including an OF-612 or resume following OF-612 guidance for content, proof of acceptance or enrollment in school via transcript (mandatory for current students and recent graduates); and a letter of acceptance, or proof of registration, or letter from a school official (on official letterhead); Standing Register/Certificate of Eligible; and OF-306 Declaration for Federal Employment.

If selected, each student must sign a Pathways U.S. Department of Agriculture Internship Program Participant Agreement, furnish course registration at the start of each school term, provide verification of academic status at the end of each academic term (grade report or transcript), meet academic standards as set forth by the school they are attending, maintain satisfactory progress in completing academic requirements, and demonstrate satisfactory performance and conduct. Students will be required to complete all academic requirements for the target position as stipulated by the Office of Personnel Management Qualification Standards.

Need and Use of the Information: The information is needed for identifying and tracking applicants that match the human capital needs of USDA agencies from 1994 Land-Grant Institutions through an internship and an award of an annually reviewed and renewed scholarship with the objective of preparing the student for successful placement into the USDA's permanent workforce.

Estimate of Burden: Public reporting burden for this collection of information is estimated to average 1.2 hours per response.

Respondents: Individuals attending or interested in attending 1994 Land Grant Institutions, teachers, principals, and guidance counselors.

Estimated Number of Respondents: 480.

Estimated Number of Responses: 1,440.

Estimated Number of Responses per Respondent: 3.

Estimated Total Annual Burden on Respondents: 1,728 hours.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on respondents, including the use of appropriate automated, electronic, mechanical, or other technological collection techniques or other forms of information technology. Comments may be sent to Lawrence Shorty, Program Director, USDA 1994 Program, Office of the Assistant Secretary for Administration, USDA, 1400 Independence Ave. SW., Mail Stop 9577, Washington, DC 20250.

All comments received will be available for public inspection during regular business hours at the same address.

All responses to this notice will be summarized and included in the request for OMB approval. All comments will become a matter of public record.

Lawrence Shorty,
Program Director, USDA 1994 Program, Office of the Assistant Secretary for Administration, U.S. Department of Agriculture.

[FR Doc. 2012-25572 Filed 10-18-12; 8:45 am]

BILLING CODE 3412-88-P